DEPARTMENT OF EDUCATION

Office of Special Education and Rehabilitative Services; Overview Information; Personnel Development to Improve Services and Results for Children With Disabilities—National Center to Inform Policy and Practice in Special Education Professional Development; Notice Inviting Applications for New Awards for Fiscal Year (FY) 2007

Catalog of Federal Domestic Assistance (CFDA) Number: 84.325Q.

Dates:

Applications Available: May 14, 2007.

Deadline for Transmittal of Applications: June 13, 2007.

Deadline for Intergovernmental Review: August 13, 2007.

Eligible Applicants: Institutions of higher education (IHEs).

Estimated Available Funds: $500,000.

Maximum Award: We will reject any application that proposes a budget exceeding $500,000 for a single budget period of 12 months. The Assistant Secretary for Special Education and Rehabilitative Services may change the maximum amount through a notice published in the Federal Register.

Number of Awards: 1.

Note: The Department is not bound by any estimates in this notice.

Project Period: Up to 60 months.

Full Text of Announcement

I. Funding Opportunity Description

Purpose of Program: The purposes of this program are to (1) help address State-identified needs for highly qualified personnel—in special education, related services, early intervention, and regular education—to work with infants or toddlers with disabilities, or children with disabilities; and (2) ensure that those personnel have the skills and knowledge—derived from practices that have been determined through research and experience to be successful—that are needed to serve those children.

Priority: In accordance with 34 CFR 75.105(b)(2)(v), this priority is from allowable activities specified in the statute (see sections 662(d) and 681(d) of the Individuals with Disabilities Education Act (IDEA)).

Absolute Priority: For FY 2007 this priority is an absolute priority. Under 34 CFR 75.105(c)(3), we consider only applications that meet this priority.

This priority is: National Center to Inform Policy and Practice in Special Education Professional Development.

Background

While Federal law requires educators to meet the highly qualified teacher (HQT) requirements, States and school districts struggle to retain such teachers. The likelihood that teachers will remain in their positions beyond the first years of employment is affected by a wide variety of factors, including the policies and practices of teacher preparation programs, States, and school districts.

The retention of teachers is a major concern among educators because teacher turnover creates multiple challenges for schools. Several recent studies report the costs of teacher turnover are high because it not only affects the quality of instruction, but turnover also means additional costs for preparing, recruiting, and inducting highly qualified teachers to replace those who have left (Boe, Cook, and Sutherland, 2006; Billingsley, 2005; Johnson, Berg, and Donaldson, 2005). On the whole, there is broad consensus among policymakers that significant efforts are needed to improve the preparation and retention of highly qualified teachers.

Teacher preparation that is of high quality is a strong predictor of both teacher retention and good teaching practice (NCTAF, 2006), and research has consistently found that new teachers make important gains in teaching quality in the first year and smaller gains over the next few years of their careers (Rivkin, Hanushek, and Kain, 2005, p. 449 as cited in Condition of Education, NCES, 2005). In addition, high quality teacher preparation, along with quality induction and mentoring during the first years of employment, appear to be even more important in urban school districts where data from the last several decades show that from 40 to 50 percent of new teachers will leave the profession within five years (Darling-Hammond and Schlan, 1996; Ingersoll, 2003; National Education Association, 2006; Farber, 2006).

Research suggests that there are a variety of effective ways to improve retention rates for beginning special educators, as well as strategies that improve the quality of pre-service training and professional development for special educators. To this end, the Secretary proposes a National Center to Inform Policy and Practice in Special Education Professional Development.

Priority: This priority supports a National Center to Inform Policy and Practice in Special Education Professional Development (Center). The purposes of this Center are to: (a) Inform special education teacher preparation policy and practice by examining and recommending to IHEs, State educational agencies (SEAs), and local educational agencies (LEAs) those policies and practices that improve retention of beginning special education teachers, such as high quality induction, mentoring, and collaborative teaching experiences; and (b) recommend implementation strategies for policies and practices that provide beginning special education and regular education teachers with the knowledge and skills to effectively support students with disabilities in different classroom settings, including collaborative practices in regular classroom settings.

The Center must:

(a) Identify needs and existing resources: Identify critical issues, needs, and existing resources that relate to improved support for beginning special educators through: (1) A comprehensive review of current policy, scientifically based research, and evidence-based practice literature on retention strategies such as the induction and mentoring of beginning teachers of students with disabilities and collaborative teaching practices; and (2) coordination with other U.S. Department of Education (ED) funded grants related to highly qualified teacher induction, mentoring, and retention (e.g., National Comprehensive Center for Teacher Quality (http://www.ncctq.org); Center for Improving Teacher Quality (http://www.centerforteacherquality.org); National Center for Special Education Personnel and Related Service Providers (http://www.personnelcenter.org); and Faculty Enhancement Center (http://iris.peabody.vanderbilt.edu);

(b) Identify critical gaps in the knowledge base: Identify the most significant gaps in the current knowledge base, considering the critical issues and needs identified in paragraph (a), and utilize this information to develop an agenda that identifies and prioritizes critical need areas, where new knowledge on retention strategies, in particular induction, mentoring, and collaborative teaching strategies in all parts of the State professional development system (IHEs, SEAs, and LEAs), is needed. The Center must ensure that the agenda is reviewed and accepted by a panel of content, research, and evaluation experts. This panel must be convened by the applicant, include representatives from teacher accreditation organizations, and be identified in collaboration with and approved by the Office of Special Education Programs (OSEP). This expert panel informs the Center's Advisory Board described in section (e).

(c) Conduct activities aligned to the agenda: Activities must be designed to enhance, not duplicate, efforts to understand induction and mentoring policies and practices, and their impact on retention. The Center must identify and evaluate innovative models for the induction and mentoring of beginning special education teachers; provide targeted technical assistance for urban or rural schools with high need for highly qualified teachers to help establish and maintain well-designed induction and mentoring programs; develop partnerships with member organizations such as the Council for Chief State School Officers, American Association of Colleges of Teacher Education, etc., to convene annual forums that support the planning of State and local policies and practices that promote the implementation of high-quality induction and mentoring programs and other strategies that support teacher retention; and respond to new and emerging issues that may influence the retention of special education teachers, in particular. The Center's work under this paragraph must align with, and be informed by, the agenda developed under paragraph (b).

(d) Disseminate policy and practice information: Develop and implement activities that will result in effective and efficient large-scale dissemination of the policy and practice information identified and developed under paragraphs (b) and (c). The Center must make materials available on a dedicated Web site that is easily searchable by topic and is available at no cost to users. The Center also must develop targeted mechanisms for dissemination to: (1) SEAs and LEAs where implementation of effective policies and practices may lead to improved staff retention; and (2) preservice training programs in IHEs, including those that supply urban or rural schools with highly qualified special educators. Dissemination activities must be conducted in collaboration with other OSEP-funded centers, in particular, the Center on Improving Teacher Quality, the National Comprehensive Center on Teacher Quality, and the National Center on Special Education Personnel and Related Services Providers Center.

(e) Evaluate project activities: Design and conduct a comprehensive evaluation of the Center. This evaluation must provide formative information to guide ongoing adjustments to the structure, activities, workflow, and products to improve the effectiveness of the Center. This comprehensive evaluation must also measure the impact of the Center to ensure that: (1) Policies and practices that improve retention of beginning special education teachers are identified and widely disseminated; (2) preservice training programs are designed to link with LEAs in support of induction and mentoring programs for beginning teachers; and (3) beginning teachers of students with disabilities, particularly in rural and urban high need schools, participate in well-designed induction and mentoring programs and use collaborative teaching strategies that support their retention in the profession.

(f) Establish an Advisory Board: The design and implementation of the Center's required activities must be guided by an Advisory Board and informed by the expert panel described in paragraph (b). The Center must establish this Advisory Board in concert with OSEP. The Advisory Board must be composed of SEA and LEA personnel, IHE faculty involved with preservice preparation, teachers, individuals or parents of students with disabilities, OSEP State Professional Development Grant project directors, and project directors of ED-funded centers on teacher quality, as appropriate.

(g) Meet the following additional requirements:

(1) Budget for a three-day Project Director's meeting in Washington, DC, during each year of the grant;

(2) If the Center maintains a Web site, include relevant information and documents in a form that meets a government or industry-recognized standard for accessibility; and

(3) Agree to submit an annual grant performance report which is required of each grantee for continuation funding (34 CFR 75.590).

Fourth and Fifth Years of the Project: In deciding whether to continue funding the Center for the fourth and fifth years, the Secretary will consider the requirements of 34 CFR 75.253(a), and in addition—

(a) The recommendation of a review team consisting of experts selected by the Secretary. The review will be conducted during the last half of the project's second year in Washington, DC; projects must budget for travel expenses associated with this one-day intensive review;

(b) The timeliness and effectiveness with which all requirements of the negotiated cooperative agreement have been or are being met by the Center; and

(c) The degree to which the project's design and methodology demonstrate the potential for advancing significant, relevant knowledge.

Waiver of Proposed Rulemaking: Under the Administrative Procedure Act (APA) (5 U.S.C. 553) the Department generally offers interested parties the opportunity to comment on a proposed priority. However, section 681(d) of IDEA makes the public comment requirements of the APA inapplicable to the priority in this notice.

Program Authority: 20 U.S.C. 1462 and 1481(d).

Applicable Regulations: The Education Department General Administrative Regulations (EDGAR) in 34 CFR parts 74, 75, 77, 79, 80, 81, 82, 84, 85, 86, 97, 98, and 99.

II. Award Information

Type of Award: Cooperative agreement.

Estimated Available Funds: $500,000.

Maximum Award: We will reject any application that proposes a budget exceeding $500,000 for a single budget period of 12 months. The Assistant Secretary for Special Education and Rehabilitative Services may change the maximum amount through a notice published in the Federal Register.

Number of Awards: 1.

Note: The Department is not bound by any estimates in this notice.

Project Period: Up to 60 months.

III. Eligibility Information

1. Eligible Applicants: IHEs.

2. Cost Sharing or Matching: This competition does not involve cost sharing or matching.

3. Other: General Requirements—(a) The projects funded under this competition must make positive efforts to employ and advance in employment-qualified individuals with disabilities (see section 606 of IDEA).

(b) Applicants and grant recipients funded under this competition must involve individuals with disabilities or parents of individuals with disabilities ages birth through 26 in planning, implementing, and evaluating the projects (see section 682(a)(1)(A) of IDEA).

IV. Application and Submission Information

1. Address to Request Application Package: Education Publications Center (ED Pubs), P.O. Box 1398, Jessup, MD 20794-1398. Telephone (toll free): 1-877-433-7827. Fax: (301) 470-1244. If you use a telecommunications device for the deaf (TDD), you may call (toll free): 1-877-576-7734.

You may also contact ED Pubs at its Web site: http://www.ed.gov/pubs/edpubs.html or you may contact ED Pubs at its e-mail address: edpubs@inet.ed.gov.

If you request an application from ED Pubs, be sure to identify this competition as follows: CFDA number 84.325Q.

Individuals with disabilities may obtain a copy of the application package in an alternative format (e.g., Braille, large print, audiotape, or computer diskette) by contacting the Grants and Contracts Services Team listed under FOR FURTHER INFORMATION CONTACT in section VII of this notice.

2. Content and Form of Application Submission: Requirements concerning the content of an application, together with the forms you must submit, are in the application package for this competition.

Page Limit: The application narrative (Part III of the application) is where you, the applicant, address the selection criteria that reviewers use to evaluate your application. You must limit Part III to the equivalent of no more than 70 pages, using the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12-point or larger or no smaller than 10 pitch (characters per inch).

The page limit does not apply to Part I, the cover sheet; Part II, the budget section, including the narrative budget justification; Part IV, the assurances and certifications; or the one-page abstract, the resumes, the bibliography, the references, or the letters of support. However, you must include all of the application narrative in Part III.

We will reject your application if—

• You apply these standards and exceed the page limit; or

• You apply other standards and exceed the equivalent of the page limit.

3. Submission Dates and Times:

Applications Available: May 14, 2007.

Deadline for Transmittal of Applications: June 13, 2007.

Applications for grants under this competition may be submitted electronically using the Grants.gov Apply site (Grants.gov), or in paper format by mail or hand delivery. For information (including dates and times) about how to submit your application electronically, or by mail or hand delivery, please refer to section IV. 6. Other Submission Requirements in this notice.

We do not consider an application that does not comply with the deadline requirements.

Individuals with disabilities who need an accommodation or auxiliary aid in connection with the application process should contact the person listed under For Further Information Contact.

Deadline for Intergovernmental Review: August 13, 2007.

4. Intergovernmental Review: This program is subject to Executive Order 12372 and the regulations in 34 CFR part 79. Information about Intergovernmental Review of Federal Programs under Executive Order 12372 is in the application package for this competition.

5. Funding Restrictions: We reference regulations outlining funding restrictions in the Applicable Regulations section of this notice.

6. Other Submission Requirements: Applications for grants under this competition may be submitted electronically or in paper format by mail or hand delivery.

a. Electronic Submission of Applications. To comply with the President's Management Agenda, we are participating as a partner in the Governmentwide Grants.gov Apply site. The National Center to Inform Policy and Practice in Special Education Professional Development competition—CFDA number 84.325Q is included in this project. We request your participation in Grants.gov.

If you choose to submit your application electronically, you must use the Governmentwide Grants.gov Apply site at http://www.Grants.gov. Through this site, you will be able to download a copy of the application package, complete it offline, and then upload and submit your application. You may not e-mail an electronic copy of a grant application to us.

You may access the electronic grant application for the National Center to Inform Policy and Practice in Special Education Professional Development competition—CFDA number 84.325Q at: http://www.grants.gov. You must search for the downloadable application package for this program by the CFDA number. Do not include the CFDA number's alpha suffix in your search (e.g., search for 84.326, not 84.326A).

Please note the following:

• Your participation in Grants.gov is voluntary.

• When you enter the Grants.gov site, you will find information about submitting an application electronically through the site, as well as the hours of operation.

• Applications received by Grants.gov are date and time stamped. Your application must be fully uploaded and submitted, and must be date and time stamped by the Grants.gov system no later than 4:30 p.m., Washington, DC time, on the application deadline date. Except as otherwise noted in this section, we will not consider your application if it is date and time stamped by the Grants.gov system later than 4:30 p.m., Washington, DC time, on the application deadline date. When we retrieve your application from Grants.gov, we will notify you if we are rejecting your application because it was date and time stamped by the Grants.gov system after 4:30 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov at http://e-Grants.ed.gov/help/GrantsgovSubmissionProcedures.pdf.

• To submit your application via Grants.gov, you must complete the steps in the Grants.gov registration process (http://www.grants.gov/applicants/get_registered.jsp). These steps include (1) registering your organization, a multi-part process that includes registration with the Central Contractor Registry (CCR); (2) registering yourself as an Authorized Organization Representative (AOR); and (3) getting authorized as an AOR by your organization. Details on these steps are outlined in the Grants.gov 3-Step Registration Guide (see http://www.grants.gov/section910/Grants.govRegistrationBrochure.pdf). You also must provide on your application the same D-U-N-S Number used with this registration. Please note that the registration process may take five or more business days to complete, and you must have completed all registration steps to allow you to successfully submit an application via Grants.gov. In addition you will need to update your CCR registration on an annual basis. This may take three or more business days to complete.

• You will not receive additional point value because you submit your application in electronic format, nor will we penalize you if you submit your application in paper format.

• If you submit your application electronically, you must submit all documents electronically, including all information you typically provide on the following forms: Application for Federal Assistance (SF 424), the Department of Education Supplemental Information for SF 424, Budget Information—Non-Construction Programs (ED 524), and all necessary assurances and certifications. Please note that two of these forms—the SF 424 and the Department of Education Supplemental Information for SF 424—have replaced the ED 424 (Application for Federal Education Assistance).

• If you submit your application electronically, you must attach any narrative sections of your application as files in a .DOC (document), .RTF (rich text), or .PDF (Portable Document) format. If you upload a file type other than the three file types specified in this paragraph or submit a password-protected file, we will not review that material.

• Your electronic application must comply with any page limit requirements described in this notice.

• After you electronically submit your application, you will receive from Grants.gov an automatic notification of receipt that contains a Grants.gov tracking number. (This notification indicates receipt by Grants.gov only, not receipt by the Department.) The Department then will retrieve your application from Grants.gov and send a second notification to you by e-mail. This second notification indicates that the Department has received your application and has assigned your application a PR/Award number (an ED-specified identifying number unique to your application).

• We may request that you provide us original signatures on forms at a later date.

Application Deadline Date Extension in Case of System Technical Issues with the Grant.Gov System: If you are experiencing problems submitting your application through Grants.gov, please contact the Grants.gov Support Desk at 1-800-518-4726. You must obtain a Grants.gov Support Desk Case Number and must keep a record of it.

If you are prevented from electronically submitting your application on the application deadline date because of technical problems with the Grants.gov system, we will grant you an extension until 4:30 p.m., Washington, DC time, the following business day to enable you to transmit your application electronically or by hand delivery. You also may mail your application by following the mailing instructions described elsewhere in this notice.

If you submit an application after 4:30 p.m., Washington, DC time, on the application deadline date, please contact the person listed elsewhere in this notice under For Further Information Contact and provide an explanation of the technical problem you experienced with Grants.gov, along with the Grants.gov Support Desk Case Number. We will accept your application if we can confirm that a technical problem occurred with the Grants.gov system and that that problem affected your ability to submit your application by 4:30 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

b. Submission of Paper Applications by Mail. If you submit your application in paper format by mail (through the U.S. Postal Service or a commercial carrier), you must mail the original and two copies of your application, on or before the application deadline date, to the Department at the applicable following address:

By mail through the U.S. Postal Service: U.S. Department of Education, Application Control Center, Attention: (CFDA Number 84.325Q), 400 Maryland Avenue, SW., Washington, DC 20202-4260; or

By mail through a commercial carrier: U.S. Department of Education, Application Control Center—Stop 4260, Attention: (CFDA Number 84.325Q), 7100 Old Landover Road, Landover, MD 20785-1506.

Regardless of which address you use, you must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery. If you submit your application in paper format by hand delivery, you (or a courier service) must deliver the original and two copies of your application by hand, on or before the application deadline date, to the Department at the following address: U.S. Department of Education, Application Control Center, Attention: (CFDA Number 84.325Q), 550 12th Street, SW., Room 7041, Potomac Center Plaza, Washington, DC 20202-4260.

The Application Control Center accepts hand deliveries daily between 8 a.m. and 4:30 p.m., Washington, DC time, except Saturdays, Sundays and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this competition are from 34 CFR 75.210 and are listed in the application package.

2. Review and Selection Process:

Treating a Priority as Two Separate Competitions: In the past, there have been problems in finding peer reviewers without conflicts of interest for competitions in which many entities throughout the country submit applications. The Standing Panel requirements under IDEA also have placed additional constraints on the availability of reviewers. Therefore, the Department has determined that, for some discretionary competitions, applications may be separated into two or more groups and ranked and selected for funding within the specific group. This procedure will ensure the availability of a much larger group of reviewers without conflicts of interest. It also will increase the quality, independence and fairness of the review process and permit panel members to review applications under discretionary competitions for which they have also submitted applications. However, if the Department decides to select for funding an equal number of applications in each group, this may result in different cut-off points for fundable applications in each group.

VI. Award Administration Information

1. Award Notices: If your application is successful, we notify your U.S. Representative and U.S. Senators and send you a Grant Award Notification (GAN). We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as specified by the Secretary in 34 CFR 75.118.

4. Performance Measures: Under the Government Performance and Results Act of 1993 (GPRA), the Department has developed annual performance measures that will yield information on various aspects of the technical assistance and dissemination activities currently being supported under Part D of IDEA. These measures will be used for the National Center to Inform Policy and Practice in Special Education Professional Development competition. They are: The percentage of products and services deemed to be of high quality by an independent review panel of qualified experts or individuals with appropriate expertise to review the substantive content of the products and services; the percentage of products and services deemed to be of high relevance to educational and early intervention policy or practice by an independent review panel of qualified members of the target audiences of the technical assistance and disseminations; and the percentage of all products and services deemed to be of high usefulness by target audiences to improve educational or early intervention policy or practice.

We will notify grantees if they will be required to provide any information related to these measures.

Grantees will also be required to report information on their projects' performance in annual reports to the Department (34 CFR 75.590).

VII. Agency Contact

For Further Information Contact: Dr. Bonnie D. Jones, U.S. Department of Education, 400 Maryland Avenue, SW., room 4153, Potomac Center Plaza, Washington, DC 20202-2600. Telephone: (202) 245-7395.

If you use a telecommunications device for the deaf (TDD), you may call the Federal Relay Service (FRS) at 1-800-877-8339.

Individuals with disabilities may obtain this document in an alternative format (e.g., Braille, large print, audiotape, or computer diskette) on request by contacting the following office: The Grants and Contracts Services Team, U.S. Department of Education, 400 Maryland Avenue, SW., Potomac Center Plaza, Washington, DC 20202-2550. Telephone: (202) 245-7363.

VIII. Other Information

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: May 7, 2007.
John H. Hager,
Assistant Secretary for Special Education and Rehabilitative Services.

[FR Doc. 07-2342 Filed 5-11-07; 8:45 am]

BILLING CODE 4001-07-P